DEPARTMENT OF ENERGY

Notice of Intent To Prepare an Environmental Impact Statement and Notice of Potential Floodplain and Wetlands Involvement for the FutureGen 2.0 Program

AGENCY: Department of Energy.

ACTION: Notice of Intent and Notice of Potential Floodplain and Wetlands Involvement.

SUMMARY: The U.S. Department of Energy (DOE or the Department) announces its intent to prepare an Environmental Impact Statement (EIS) pursuant to the National Environmental Policy Act (NEPA) of 1969 (42 U.S.C. 4321 et seq.), the Council on Environmental Quality's (CEQ) NEPA regulations (40 CFR Parts 1500-1508), and DOE's NEPA implementing procedures (10 CFR Part 1021) to assess the potential environmental impacts of DOE's proposed action: providing approximately $1 billion in Federal funding (most of it appropriated by the American Recovery and Reinvestment Act, or “ARRA”) for the FutureGen 2.0 program. DOE has prepared this Notice of Intent (NOI) to inform interested parties of the pending EIS and to invite public comments on the proposed action, including: (1) The range of environmental issues, (2) the alternatives to be analyzed, and (3) the impacts to be considered in the EIS. The NOI also provides notice in accordance with 10 CFR Part 1022 (DOE's regulations for compliance with floodplain and wetland review requirements) that the proposed project may involve potential impacts to floodplains and wetlands.

The FutureGen 2.0 program would provide financial assistance for the repowering of an existing electricity generator with clean coal technologies integrated with a pipeline that would transport carbon dioxide (CO2) to a sequestration site where it would be injected and stored in a deep geologic formation. DOE entered into separate cooperative agreements with Ameren Energy Resources (Ameren) and with the FutureGen Alliance (the Alliance) that define DOE's proposed action. This program consists of an Oxy-Combustion Large Scale Test undertaken by Ameren at its Meredosia Power Station in west central Illinois and a Pipeline and CO2 Storage Reservoir undertaken by the Alliance. In addition, the Alliance would construct and operate facilities for research, training, and visitors in the vicinity of the sequestration site. The Alliance has identified its preferred sequestration site in Morgan County, Illinois, and two alternative sites, one in Christian County, Illinois and one in Douglas County, Illinois. The program would provide performance and emissions data as well as establish operating and maintenance experience that would facilitate future large-scale commercial deployment of these technologies. DOE would provide technical and programmatic guidance to Ameren and the Alliance and oversee activities for compliance with the terms of the cooperative agreements. DOE is responsible for NEPA compliance activities.

DOE encourages government agencies, private-sector organizations, and the general public to participate in the FutureGen 2.0 program through the NEPA process. DOE will consult with interested Native American Tribes and Federal, state, regional and local agencies during preparation of the EIS. Further, DOE invites agencies with jurisdiction by law or special expertise to participate as cooperating agencies in the preparation of this EIS.

DATES: DOE invites comments on the proposed scope and content of the EIS from all interested parties. To ensure consideration in the preparation of the EIS, comments must be received by June 22, 2011. DOE will consider late comments to the extent practicable. In addition to receiving comments in writing and by e-mail [See ADDRESSES below], DOE will conduct public scoping meetings during which government agencies, private-sector organizations, and the general public are invited to present oral and written comments with regard to DOE's proposed action, alternatives, and potential impacts of the proposed FutureGen 2.0 program. DOE will consider these comments in developing the EIS. Public scoping meetings will be held on June 7, 8, and 9, 2011 [See “Public Scoping Process” under SUPPLEMENTARY INFORMATION below].

ADDRESSES: Written comments on the scope of the EIS and requests to participate in the public scoping meetings should be addressed to: Mr. Cliff Whyte, U.S. Department of Energy, National Energy Technology Laboratory, P.O. Box 880, Morgantown, West Virginia 26507-0880. Individuals and organizations who would like to provide oral or written comments should contact Mr. Whyte by mail at the above address; telephone (toll-free) 1-877-338-5689; fax 304-285-4403; or electronic mail (FG2.EIS@netl.doe.gov).

Oral comments will be heard during the formal portion of the scoping meetings [See “Public Scoping Process” under SUPPLEMENTARY INFORMATION below]. Various displays and other information about DOE's NEPA process and the FutureGen 2.0 program will be available, and representatives from DOE and the project partners will be present at an informal session to discuss the FutureGen 2.0 program and the EIS process.

FOR FURTHER INFORMATION CONTACT: For further information about this project, contact Mr. Whyte as described above. For general information about the DOE NEPA process, please contact Ms. Carol M. Borgstrom, Director, Office of NEPA Policy and Compliance (GC-54), U.S. Department of Energy, 1000 Independence Avenue, SW., Washington, DC 20585; telephone (202-586-4600); fax (202-586-7031); or leave a toll-free message (1-800-472-2756).

SUPPLEMENTARY INFORMATION:

Background

On February 27, 2003, President George W. Bush proposed that the United States undertake a $1 billion, 10-year project to build the world's first coal-fueled plant to produce electricity and hydrogen with near-zero emissions. In response to that announcement, DOE developed plans for the original FutureGen project, which would establish the technical and economic feasibility of producing electricity and hydrogen from coal—a low-cost and abundant energy resource—while capturing and geologically storing the CO2 generated in the process. DOE issued a Final EIS for the original FutureGen project (DOE/EIS-0394) in November 2007 and an associated Record of Decision in July 2009 (74 FR 35174). The proposed action would have resulted in the construction and operation of a 330-MWe (gross) integrated gasification combined cycle (IGCC) plant near Mattoon, Illinois, with capture and storage of more than 1 million tons of CO2 per year in the Mount Simon geologic formation. The total cost of the original FutureGen Project proved to be higher than acceptable, however, causing a funding gap that could not be filled by Federal or state governments or private industry. As a result DOE refocused its approach. The FutureGen 2.0 program consists of the two separate Cooperative Agreements with Ameren and the Alliance. Ameren's partners include Babcock & Wilcox Power Generation Group (B&W) and Air Liquide Process & Construction, Inc. (AL). The Alliance is a non-profit corporation that represents a global coalition of coal producers, coal users and coal equipment suppliers, including full members: Alpha Natural Resources, Inc.; Anglo American, LLC; CONSOL Energy, Inc.; Louisville Gas and Electric Company and Kentucky Utilities Company (LG&E and KU); Peabody Energy Corporation; Rio Tinto Energy America; and Xstrata, PLC.

Purpose and Need for DOE Action

In pursuing the United States' goal of providing safe, affordable and clean energy for its citizens, coal plays an important role in the nation's energy supply. However, without carbon capture and sequestration, the combustion of coal and other fossil fuels leads to increased releases of CO2 into the atmosphere. Because power plants are large stationary sources, it is generally considered to be more feasible to capture CO2 from them and store it rather than attempting to capture it from mobile sources such as automobiles.

To this end, DOE has sought to support near-zero emissions technologies that would produce electric power from coal while permanently storing CO2 in deep geologic formations. The technical, economic, and environmental feasibility of producing electric power from coal coupled with geologic storage technology must be proven. DOE believes that oxy-combustion technology has the potential to help open a market for repowering in many of the world's existing pulverized coal power plants. In the absence of the proven operation of a repowered, near-zero emissions plant, the contribution of coal to the nation's energy supply could be reduced. This could potentially increase the use of higher cost and/or nondomestic energy resources and impact the domestic economy as well as energy security.

Proposed Action

DOE proposes to provide financial assistance (approximately $1 billion) to Ameren and the Alliance to support implementation of their projects, which if successful would provide critical performance and emissions data as well as establish operating, permitting, maintenance, and other experience needed for future commercial deployment of these technologies.

The FutureGen 2.0 program seeks to continue the work of the original FutureGen project by advancing technology that can make the United States a world leader in carbon capture and storage (CCS). In formulating its proposal for FutureGen 2.0, DOE sought to reduce the project's overall cost by changing the technology from coal gasification to oxy-combustion. The inherent scalability of oxy-combustion technology allows a reduction in power plant size with substantial cost benefits. Studies by DOE's National Energy Technology Laboratory have identified oxy-combustion technology as a potentially cost-effective approach to implement carbon capture at existing coal-fueled facilities. It also has the potential for use in new power plants as well as in repowering a large cross-section of the world's existing pulverized coal plants.

The FutureGen 2.0 program would proceed through 2020 with design, construction, operation, and monitoring. Performance and economic test results would be shared among all participants, industry, the environmental community, and the public. The Alliance has an open membership policy to encourage the addition of other coal producers, coal users and coal equipment suppliers, both domestic and international. Consistent with the original FutureGen project, DOE encourages participation from international organizations to maximize the global applicability and acceptance of FutureGen 2.0's results, helping to support an international consensus on the role of coal and geologic storage in addressing global greenhouse gas emissions and energy security.

Oxy-Combustion Large Scale Test

For the Oxy-Combustion Large Scale Test, Ameren and its team would repower Unit 4 at Ameren's Meredosia Power Station in west central Illinois using advanced oxy-combustion technology. The oxy-combustion facility may be capable of running on a range of coals and operating conditions. The data generated would be used to expand the market for oxy-combustion technology. The project is also expected to provide performance and emissions data as well as establish operating and maintenance experience that will facilitate future large-scale commercial projects.

The scope of this test includes project definition, design, procurement, manufacture, installation, startup, commercial operation and testing of an integrated oxy-combustion coal boiler with CO2 capture, purification, and compression. The plant would generate approximately 200 MWe gross with a net output estimated at approximately 140 MWe. The CO2 would be cleaned, compressed for transport, and delivered to a terminal point for transfer to the Alliance's project.

Meredosia Power Station: The Meredosia Power Station is located adjacent to the east side of the Illinois River, south of Meredosia, Illinois, approximately 18 miles west of Jacksonville, Illinois. The plant includes four generating units, three of which are coal-fired and one of which is oil-fired. Unit 4, built in 1975, is an oil-fired unit that is currently idle. The steam turbine and generator have low operating hours and could be placed into service as part of the repowered oxy-combustion design. The station contains existing infrastructure that could support the operation of the oxy-combustion system including interconnection to the electrical grid, water supply and intake structures, wastewater outfalls, coal storage and handling areas, and barge and truck delivery systems for coal. The 5,300-foot western boundary of the 260-acre Meredosia Power Station fronts the Illinois River, where the station's oil and coal barge unloading facilities are located. The land immediately adjacent to the station on the north, northeast and southeast is railroad property; other immediately adjacent property is roadway. Beyond and in addition to the railroad property and roadways, land use is primarily residential to the north and northeast, scattered residential and agricultural to the east, and industrial to the south.

Oxy-Combustion Technology: This technology involves designing the power plant's boiler to combust coal with a mixture of nearly pure oxygen and recycled flue gas (which is primarily CO2) rather than air. An air separation unit produces the oxygen. The concentrated stream of CO2 that leaves the boiler would be ready for processing by environmental cleanup equipment (to remove other captured emissions) and the compression and purification unit. The concentrated and compressed CO2 would then be transferred to a pipeline for transmission to the Alliance's storage location. The oxy-combustion technology during normal operations would produce near-zero emissions of oxides of nitrogen (NOX), oxides of sulfur (SOx), mercury, particulate matter and other pollutants typical of a conventional coal-fired boiler. The plant would be designed to capture approximately 1.3 million metric tons of CO2 per year from the oxy-combustion system and is targeted to achieve a CO2 capture rate exceeding 90 percent.

Pipeline and CO2 Storage Reservoir

For the Pipeline and CO2 Storage Reservoir project, the Alliance would design, construct, and operate a transmission pipeline and geologic injection and storage facility. The Alliance's work involves selection of a suitable storage site, development of the subsurface storage field, development of CO2 transport infrastructure (pipeline), and construction of the associated research and training facilities, including a visitor center. The Alliance has identified its preferred site in Morgan County, Illinois, for the injection facility, and two other sites (one in Christian County and one in Douglas County, Illinois) as potential alternate locations should the preferred site prove infeasible. The Alliance's preferred site for geologic storage in Morgan County, Illinois is approximately 30 miles from the Meredosia Power Station, and the Alliance's alternate sites in Christian County and Douglas County, Illinois are approximately 75 and 125 miles from the plant site, respectively. All three sites would be evaluated in the EIS unless DOE determines that they are not reasonable alternatives.

The Alliance would construct a pipeline to transport CO2 from the Meredosia Power Station to the selected storage site where it would be injected through deep wells into the target geologic formation. The pipeline and storage reservoir would be designed to inject and store approximately 39 million metric tons over a 30-year operating period. Depending on stakeholder and landowner acceptance, the Alliance may also consider other sources of CO2 in addition to that from Ameren's plant for injection. Research would include site characterization, injection and storage, and CO2 monitoring and measurement.

The target formation for CO2 injection and storage is the Mount Simon sandstone formation, which is one of the Illinois Basin's major deep saline formations. The formation's positive characteristics for CO2 storage include its isolation from other strata, as well as its depth, lateral continuity, and relative permeability. The Mount Simon is bounded below by a Pre-Cambrian igneous rock and above by the Eau Claire formation, which is a mixture of tightly layered shales with low permeability, as well as by secondary caprock formations above the Eau Claire. The Alliance would implement a monitoring, verification, and accounting (MVA) program to monitor the injection and storage of CO2 within the geologic formations to verify that it stays within the target formation. The MVA program would meet injection control permitting and requirements that DOE may impose. In accordance with the Safe Drinking Water Act, the Alliance would be required to obtain a Class VI underground injection control permit from the U.S. Environmental Protection Agency. The MVA program consists of the following components: (1) Injection system monitoring; (2) containment monitoring (via monitoring wells, mechanical integrity testing, and other means); (3) CO2 plume tracking via multiple techniques; (4) CO2 injection simulation modeling; and (5) perhaps new experimental techniques not yet in practice.

Proposed Project Schedules

The Oxy-Combustion Large Scale Test would initiate operations (including CO2 capture, purification and compression) in 2016 and complete federally-funded project activities (operational testing) in 2018. The Pipeline and CO2 Storage Reservoir would become operational at the same time (2016) and complete federally-funded project activities (operational testing and two-years of additional federally-funded MVA activities) in 2020. CO2 capture, pipeline transport, injection, and MVA activities are expected to operate (without federal funding) for approximately 30 years. MVA activities would take place during injection and continue beyond its cessation as prescribed by regulatory requirements. The schedule is contingent upon Ameren and the Alliance receiving the necessary permits and regulatory approvals, as well as financial closing on all the necessary funding sources, including DOE's financial assistance. DOE's proposal to provide full financial assistance for detailed design, procurement of equipment, construction, and operations is contingent upon DOE's completion of the NEPA process, and achievement of the permitting and financial requirements listed above by Ameren and the Alliance.

Connected and Cumulative Actions

The components of the FutureGen 2.0 program will be evaluated individually and collectively within the EIS. Although injection of other sources of CO2 is not currently proposed, such injection is reasonably foreseeable and will be evaluated in the EIS. DOE will also consider the cumulative impacts of the program, which will include the analysis of emissions (including greenhouse gas emissions) and other incremental impacts. Cumulative impacts are impacts on the environment which result from the incremental impacts of an action when added to other past, present, and reasonably foreseeable future actions.

Alternatives

NEPA requires that an EIS evaluate the range of reasonable alternatives to an agency's proposed action. DOE's range of reasonable alternatives includes the No Action Alternative, which is to withhold financial assistance for the FutureGen 2.0 program, and the Action Alternative, which is to provide financial assistance to the FutureGen 2.0 program.

DOE has developed the range of reasonable alternatives for FutureGen 2.0 program based on evaluation of various clean coal technologies through the Clean Coal Power Initiative program; analysis of the original FutureGen Project in terms of technology, costs, and suitability for geologic storage; data obtained and reviewed through various funding opportunity announcements; data obtained for the original FutureGen Project and a related project called Restructured FutureGen; and the interest of industry to participate in projects to support FutureGen 2.0 based on these evaluations. In particular, DOE's current proposal to advance the programmatic goal of CO2 storage in the Mount Simon Formation in Illinois through the FutureGen Program was addressed in its Final Environmental Impact Statement for the FutureGen Project (DOE/EIS-0394 [November 2007]) and associated Record of Decision (74 FR 35174 (2009)).

Through review and consideration of these data and analysis, the repowering of an existing power plant with oxy-combustion technology was identified as the approach that would meet cost and technology advancement objectives of FutureGen Program. Furthermore, DOE determined that due to cost and technical advantages obtained through efforts conducted by the FutureGen Alliance under the original FutureGen Project, that the Alliance's choice of geologic storage formations would be limited to the Mount Simon Formation. Given these factors, reasonable alternatives were limited to potential oxy-combustion repowering projects at a location from which it would remain economically viable to transport captured CO2 for injection into the Mount Simon Formation.

The range of reasonable alternatives for a financial assistance project that is proposed by industrial participants is limited to the alternatives or project options under consideration by the participants or that are reasonable within the confines of the project as proposed (e.g., the particular location of the processing units, pipelines, injection sites on land proposed for the project, and potential measures to mitigate potential environmental impacts) and a “no-action” alternative. Regarding the no action alternative, DOE assumes for purposes of the EIS that, if DOE decides to withhold financial assistance, the project would not proceed.

DOE will evaluate the two projects that constitute the FutureGen 2.0 program with and without any mitigating conditions that DOE may identify as reasonable and appropriate. Alternatives considered in developing respective components of the proposed FutureGen 2.0 program and eliminated from further consideration will also be discussed in the EIS.

The sequestration site would be designed to accept and store at a minimum the CO2 captured at Ameren's Meredosia Power Station over its 30-year design life. The Alliance undertook a site selection process in October 2010 with the issuance of a Request for Proposals seeking a site upon which the Alliance would construct and operate the CO2 storage project. The Alliance hosted two public meetings, one for prospective site offerors and a subsequent meeting for the general public, on October 28, 2010, in Springfield, Illinois. Representatives for 16 proposed sites attended the meeting, and the Alliance received proposals from six sites in November 2010. In December 2010, the Alliance selected four of the six sites for further evaluation and subsequently identified three candidate sites, one preferred and two alternates, which will be evaluated in the EIS.

DOE will also consider a no-action alternative whereby the Department would not fund the FutureGen 2.0 program and the project would not proceed. In the absence of DOE funding, it would be unlikely that the project proponents, or industry in general, would soon undertake the utility-scale integration of CO2 capture and geologic storage with a coal-fired power plant repowered with oxy-combustion. Absent DOE's investment in a utility-scale facility, the development of oxy-combustion repowered plants integrated with CO2 capture and geologic storage would occur more slowly or not at all.

Decision Making Process

DOE will consider public scoping comments in preparing a Draft EIS, which will be issued for public comment. DOE will consider public comments on the Draft EIS and respond as appropriate in the Final EIS. No sooner than 30 days following completion of the Final EIS, DOE would announce its decision regarding whether to provide financial assistance to these projects in a Record of Decision (ROD). If DOE decides to provide financial assistance, the Alliance would develop its pipeline and storage site. Similarly, Ameren would proceed with detailed design and construction activities at the Meredosia site.

Floodplains and Wetlands

Activities required to implement the FutureGen 2.0 program, such as those required to repower Unit 4 at the Meredosia Power Station, would be undertaken to avoid or minimize potential impacts to wetlands or floodplains. The Meredosia Power Station site includes low lying areas to the west, north, and south, which are located in the floodplain. However, the existing generating units as well as proposed locations for the new oxy-combustion unit are located above the floodplain elevation. Any wetland and floodplain impacts that might result from installation of monitoring and injection wells, or the construction of CO2 pipelines or other linear features required for this program, will be described in the EIS. In the event that DOE were to identify wetlands and floodplains that would be affected by the FutureGen 2.0 program as a result of pipelines, injection facilities, or connected actions, DOE would prepare a floodplain and wetland assessment in accordance with its regulations at 10 CFR Part 1022, and include the assessment in the Draft EIS.

Preliminary Identification of Environmental Issues

DOE intends to address the issues listed below when considering the potential impacts resulting from the construction and operation of the proposed FutureGen 2.0 program and any connected actions. This list is neither intended to be all-inclusive, nor a predetermined set of potential impacts. DOE invites comments on whether this is an appropriate list of issues that should be considered in the EIS. The preliminary list of potentially affected resources or activities and their related environmental issues includes:

Air quality resources: Potential air quality impacts from emissions during construction and operation of the repowered Unit 4 at the Meredosia plant or CCS facilities and other related facilities on local or regional air quality;

Climate change: Potential impacts from emissions of CO2 and other greenhouse gas emissions;

Water resources: Potential impacts from water utilization and consumption, plus potential impacts from stream crossings and wastewater discharges;

Infrastructure and land use: Potential environmental and socioeconomic impacts associated with the project, including delivery of feed materials and distribution of products (e.g., access roads, pipelines);

Visual resources: Potential impacts to the view shed, scenic views (e.g., impacts from the injection wells, pipelines, and support facilities for the injection wells and pipelines), and perception of the community or locality;

Solid wastes: Pollution prevention and waste management issues (generation, treatment, transport, storage, disposal or use), including potential impacts from the generation, treatment, storage, and management of hazardous materials and other solid wastes;

Biological resources: Potential impacts to vegetation, wildlife, threatened or endangered species, and ecologically sensitive habitats;

Floodplains and wetlands: Potential wetland and floodplain impacts from construction of project facilities;

Traffic: Potential impacts from the construction and operation of the facilities, including changes in local traffic patterns, deterioration of roads, traffic hazards, and traffic controls;

Historic and cultural resources: Potential impacts related to site development and the associated linear facilities (e.g., pipelines);

Geology: Potential impacts from the injection and storage of CO2 on underground resources such as ground water supplies, mineral resources, and fossil fuel resources, and the fate and stability of CO2 being stored;

Health and safety issues: Potential impacts associated with use, transport, and storage of hazardous chemicals, as well as CO2 capture and transport to the sequestration site;

Socioeconomics: Potential impacts to schools, housing, public services, and local revenues, including the creation of jobs;

Environmental justice: Potential for disproportionately high and adverse impacts on minority and low-income populations;

Noise and light: Potential disturbance impacts from construction, transportation of materials, and facility operations;

Connected actions: Potential impacts from the integrated operations of the oxy-combustion project and sequestration project, as well as potential development of support facilities or supporting infrastructure;

Cumulative effects that could result from the incremental impacts of the proposed project when added to other past, present, and reasonably foreseeable future actions;

DOE will also address compliance with regulatory and environmental permitting requirements and environmental monitoring plans associated with the carbon capture facility and CO2 geologic storage activities.

Public Scoping Process

This Notice of Intent initiates the scoping process under NEPA, which will guide the development of the Draft EIS. To ensure identification of issues related to DOE's proposed action with respect to the proposed FutureGen 2.0 program, DOE seeks public input to define the scope of the EIS. The public scoping period will end June 22, 2011. Interested government agencies, Native American Tribes, private-sector organizations, and the general public are encouraged to submit comments or suggestions concerning the content of the EIS, issues and impacts that should be addressed, and alternatives that should be considered. Scoping comments should clearly describe specific issues or topics that the EIS should address. Written, e-mailed, or faxed comments should be received by June 22, 2011 (see ADDRESSES). DOE will consider late comments to the extent practicable.

DOE will conduct public scoping meetings according to the following schedule:

June 7, 2011—Taylorville High School, 815 W. Springfield Road, Taylorville, IL 62568.

June 8, 2011—Ironhorse Golf Club, 2000 Ironhorse Drive, Tuscola, IL 61953.

June 9, 2011—The Jacksonville Elks Lodge, 231 West Morgan Street, Jacksonville, IL 62650.

Each public scoping meeting will include an informal session from 5 to 7 p.m, followed by a formal presentation at 7 p.m.

Oral comments will be heard during the formal portion of the scoping meetings. The public is also invited to learn more about the project at an informal session at each location. DOE requests that anyone who wishes to speak at the public scoping meetings should contact Mr. Whyte, either by phone, e-mail, fax, or postal mail (see ADDRESSES).

Those who do not arrange in advance to speak may register at the meeting (preferably at the beginning of the meeting) and would be given an opportunity to speak after previously scheduled speakers. Speakers will be given approximately five minutes to present their comments. Those speakers who want more than five minutes should indicate the length of time desired in their request. Depending on the number of speakers, DOE may need to limit all speakers to five minutes initially and provide additional opportunity as time permits. Individuals may also provide written materials in lieu of, or supplemental to, their presentations. DOE will give equal consideration to oral and written comments.

DOE will begin the formal meeting with an overview of the proposed FutureGen 2.0 program. The meeting will not be conducted as an evidentiary hearing, and speakers will not be cross-examined. However, speakers may be asked questions to help ensure that DOE fully understands the comments or suggestions. A presiding officer will establish the order of speakers and provide any additional procedures necessary to conduct the meeting. A stenographer will record the proceedings, including all oral comments received.

Issued in Washington, DC, this 18th day of May 2011.
Charles D. McConnell,
Chief Operating Officer, Office of Fossil Energy.

[FR Doc. 2011-12632 Filed 5-20-11; 8:45 am]

BILLING CODE 6450-01-P